DEPARTMENT OF AGRICULTURE

Natural Resources Conservation Service

Humble Canal Project (ME-11), Cameron Parish, LA

AGENCY: Natural Resources Conservation Service, USDA.

ACTION: Notice of Finding of No Significant Impact.

SUMMARY: Pursuant to section 102 (2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Humble Canal Project (ME-11), Cameron Parish, Louisiana.

FOR FURTHER INFORMATION CONTACT: Donald W. Gohmert, State Conservationist, Natural Resources Conservation Service, 3737 Government Street, Alexandria, Louisiana 71302, telephone (318) 473-7751.

SUPPLEMENTARY INFORMATION: The environmental assessment of this federally assisted action indicates that the project will not cause significant local, regional, or national impacts on the environment. As a result of these findings, Donald W. Gohmert, State Conservationist, has determined that the preparation and review of an environmental impact statement are not needed on this project.

The primary goal is to promote hydrologic benefits by allowing water to flow out of the system without subjecting the fresh marshes to damaging outside salinity. Interior areas that have converted to shallow open water will be given the opportunity to revegetate by attempting to lower excessive water levels within the project. Protection from salinities will continue to permit the growth of aquatic vegetation. The planned works of improvement include installing five 48-inch water control structures with variable-crest weir inlets and flapgated outlets and an 18-inch marine organism ingress structure with a screwgate.

The Notice of a Finding of No Significant Impact (FONSI) has been forwarded to the Environmental Protection Agency and to various federal, state and local agencies and interested parties. A limited number of copies of the FONSI are available to fill single copy requests at the above address.

No administrative action on implementation of the proposal will be taken until 30 days after the date of this publication in the Federal Register.

Dated: July 20, 2001.
Donald W. Gohmert,
State Conservationist.

[FR Doc. 01-18732 Filed 7-26-01; 8:45 am]

BILLING CODE 3410-16-P